DEPARTMENT OF STATE

[Public Notice 5327]

Arms Control and Nonproliferation Advisory Board (ACNAB); Meeting Notice

Closed Meeting

In accordance with section 10(a)(2) of the Federal Advisory Committee Act, 5 U.S.C. app 2 § 10(a)(2), the Department of State announces a meeting of the Arms Control and Nonproliferation Advisory Board (ACNAB) to take place on May 11, 2006, at the Department of State, Washington, DC. Pursuant to section 10(d) of the Federal Advisory Committee Act, 5 U.S.C. app 2 § 10(d) and 5 U.S.C. 552b(c)(1), it has been determined that this Board meeting will be closed to the public in the interest of national defense and foreign policy because the Board will be reviewing and discussing matters classified in accordance with Executive Order 12958. The purpose of the ACNAB is to provide the Department with a continuing source of independent advice on all aspects of arms control, disarmament, international security, and public diplomacy. The agenda for this meeting includes classified briefings and other discussions related to the Board's on-going studies on current U.S. policy and issues regarding the National Strategy for Combating Weapons of Mass Destruction, Counter-Terrorism and Space Policy. For more information, contact Matthew Zartman, Deputy Executive Director of the Arms Control and Nonproliferation Advisory Board, Department of State, Washington, DC 20520, telephone: (202) 736-4244.

Dated: April 10, 2006.
Dr. George W. Look,
Executive Director of The Secretary's Arms Control and Nonproliferation Advisory Board, Department of State.

[FR Doc. E6-5871 Filed 4-18-06; 8:45 am]

BILLING CODE 4710-27-P